DEPARTMENT OF THE INTERIOR

Bureau of Land Management

[LLCAN01000 L07772100.XZ0000 212L1109AF]

Notice of Public Meetings, Northern California District Resource Advisory Council

AGENCY: Bureau of Land Management, Interior.

ACTION: Notice of public meetings.

SUMMARY: In accordance with the Federal Land Policy and Management Act and the Federal Advisory Committee Act, the U.S. Department of the Interior, Bureau of Land Management's (BLM) Northern California District Resource Advisory Council (RAC) will meet as follows.

DATES: The RAC will conduct a field tour on Thursday, Aug. 26, 2021, from 10 a.m. to 4 p.m. The RAC will hold a business meeting on Friday, Aug. 27, 2021, from 8 a.m. to noon, with public comments accepted at 11 a.m.

The RAC will also conduct a field tour on Thursday, Oct. 7, 2021, from 10 a.m. to 4 p.m. It will hold a business meeting on Friday, Oct. 8, 2021, from 8 a.m. to noon, with public comments accepted at 11 a.m.

The field tours and meetings are open to the public.

ADDRESSES: If Centers for Disease Control (CDC) COVID-19 guidelines continue to preclude on-site meetings, the field-tour days will be cancelled and the Friday, Aug. 27 and Friday, Oct. 8 meetings will be held virtually via Zoom. Meeting links and participation instructions will be made available to the public via news media, social media, the BLM California website blm.gov/get-involved/rac/California/northern-california-rac, and through personal contact 2 weeks prior to the meeting. The Aug. 26 and 27 field tour and meeting will be held at the BLM Arcata Field Office, 1695 Heindon Road, Arcata, CA. The Oct. 7 and 8 field tour and meeting will be held at the BLM Redding Field Office, 6640 Lockheed Drive, Redding, CA.

Written comments pertaining to any of the meetings can be sent to the BLM Northern California District Office, 6640 Lockheed Drive, Redding, CA 96002, Attention: RAC meeting comments.

FOR FURTHER INFORMATION CONTACT: Public Affairs Officer Joseph J. Fontana, telephone: (530) 260-0189, email: jfontana@blm.gov. Persons who use a telecommunications device for the deaf (TDD) may call the Federal Relay Service (FRS) at (800) 877-8339 to contact Mr. Fontana during normal business hours. The FRS is available 24 hours a day, 7 days a week, to leave a message. You will receive a reply during normal business hours.

SUPPLEMENTARY INFORMATION: The Northern California District RAC advises the Secretary of the Interior, through the BLM, on a variety of planning and management issues associated with BLM-managed public lands in northern California and far northwest Nevada. Topics for these meetings are as follows:

• Aug. 26-27: On Aug. 26, the RAC will tour public-land sites that would be affected by the Northwest California Integrated Resource Management Plan (NCIP), which is under development. On Aug. 27, the RAC will hear a report on NCIP planning alternatives and determine whether to make a recommendation to the BLM about any of these alternatives. The RAC will also hear a report on wild horse and burro management actions in the district.

• Oct. 7 and 8: On Oct. 7, the RAC will tour public-land sites managed by the Redding Field Office and discuss how the NCIP would apply to the areas. On Oct. 8, the RAC will provide comments for the NCIP, discuss the planning schedule and the BLM's publication of a Notice of Intent to prepare an environmental impact statement associated with development of the NCIP.

All meetings are open to the public. Each RAC meeting will have time allocated for public comments. Depending on the number of persons wishing to speak and the time available, the amount of time for oral comments may be limited. Written public comments may be sent to the BLM Northern California District Office at the address listed in the ADDRESSES section of this notice. All comments received will be provided to the RAC.

Public Disclosure of Comments: Before including your address, phone number, email address, or other personal identifying information in your comment, you should be aware that your entire comment—including your personal identifying information—may be made publicly available at any time. While you can ask us in your comment to withhold your personal identifying information from public review, we cannot guarantee that we will be able to do so.

Members of the public are welcome on field tours but must provide their own transportation and meals. Individuals who plan to attend and need special assistance, such as sign language interpretation and other reasonable accommodations, should contact the BLM (see FOR FURTHER INFORMATION CONTACT). Meetings and field tours will follow current CDC COVID-19 guidance regarding social distancing and wearing of masks.

Detailed meeting minutes for the RAC meetings will be maintained in the BLM Northern California District Office. Minutes will also be posted to the BLM California RAC web page.

Authority: 43 CFR 1784.4-2.

Erica St. Michel,
Deputy State Director, Communications.

[FR Doc. 2021-13358 Filed 6-23-21; 8:45 am]

BILLING CODE 4310-40-P